SURFACE TRANSPORTATION BOARD

Surface Transportation Board

49 CFR Ch. X

[STB Ex Parte No. 536 (Sub-No. 41)]

Semiannual Regulatory Agenda

AGENCY: Surface Transportation Board.

ACTION: Semiannual regulatory agenda.

SUMMARY: The Surface Transportation Board (the Board), in accordance with the requirements of the Regulatory Flexibility Act (RFA), is publishing a semiannual agenda of: (1) Current and projected rulemakings; and (2) existing regulations being reviewed to determine whether to propose modifications through rulemaking. Listed below are the regulatory actions to be developed or reviewed during the next 12 months. Following each rule identified is a brief description of the rule, including its purpose and legal basis.

FOR FURTHER INFORMATION CONTACT: A contact person is identified for each of the rules listed below.

SUPPLEMENTARY INFORMATION: The Regulatory Flexibility Act, 5 U.S.C. 601 et seq. (RFA), sets forth a number of requirements for agency rulemaking. Among other things, the RFA requires that, semiannually, each agency shall publish in the Federal Register a regulatory flexibility agenda, which shall contain:

(1) A brief description of the subject area of any rule that the agency expects to propose or promulgate, which is likely to have a significant economic impact on a substantial number of small entities;

(2) A summary of the nature of any such rule under consideration for each subject area listed in the agenda pursuant to paragraph (1), the objectives and legal basis for the issuance of the rule, and an approximate schedule for completing action on any rule for which the agency has issued a general notice of proposed rulemaking; and

(3) The name and telephone number of an agency official knowledgeable about the items listed in paragraph (1).

Accordingly, a list of proceedings appears below containing information about subject areas in which the Board is currently conducting rulemaking proceedings or may institute such proceedings in the near future. It also contains information about existing regulations being reviewed to determine whether to propose modifications through rulemaking.

The agenda represents the Board's best estimate of rules that will be considered over the next 12 months. However, section 602(d) of the RFA, 5 U.S.C. 602(d), provides: “Nothing in [section 602] precludes an agency from considering or acting on any matter not included in a regulatory flexibility agenda or requires an agency to consider or act on any matter listed in such agenda.”

The Board is publishing its fall 2016 regulatory flexibility agenda as part of the Unified Agenda of Federal Regulatory and Deregulatory Actions (Unified Agenda). The Unified Agenda is coordinated by the Office of Management and Budget (OMB), pursuant to Executive Orders 12866 and 13563. The Board is participating voluntarily in the program to assist OMB.

Dated: September 7, 2016.
By the Board, Chairman Elliott, Vice Chairman Miller, and Commissioner Begeman.
Andrea Pope-Matheson,
Clearance Clerk.

Surface Transportation Board—Proposed Rule Stage
Sequence No. | Title | Regulation Identifier No.
581 | Review of Commodity, Boxcar, and TOFC/COFC Exemptions, EP 704 (Sub-No. 1) | 2140-AB29

Surface Transportation Board—Completed Actions
Sequence No. | Title | Regulation Identifier No.
582 | Review of Commodity, Boxcar, and TOFC/COFC Exemptions, Docket No. EP 704 | 2140-AB28

SURFACE TRANSPORTATION BOARD (STB)

Proposed Rule Stage

581. • Review of Commodity, Boxcar, and TOFC/COFC Exemptions, EP 704 (Sub-No. 1)

Legal Authority: 49 U.S.C. 10502; 49 U.S.C. 13301

Abstract: In this proceeding, the Board is proposing to revoke the class exemptions for the rail transporation of (1) crushed or broken stone or rip-rap; (2) hydraulic cement; and (3) coke produced from coal, primary iron or steel products, and iron or steel scrap, wastes, or tailings.

Timetable:

Action | Date | FR Cite
NPRM | 03/28/16 | 81 FR 17125
NPRM Comment Period End | 07/26/16
NPRM Reply Comment Period End | 08/26/16
Next Action | 01/00/17

Regulatory Flexibility Analysis Required: Yes.

Agency Contact: Scott M. Zimmerman, Deputy Director, Office of Proceedings, Surface Transportation Board, 395 E Street SW., Washington, DC 20423-0001, Phone: 202 245-0386, Fax: 202 245-0464, Email: zimmermans@stb.dot.gov.

Francis O'Connor, Section Chief, Chemical & Agricultural Transportation, Surface Transportation Board, 395 E Street SW., Washington, DC 20423, Phone: 202 245-0331, Fax: 202 245-0454, Email: francis.o'connor@stb.dot.gov.

RIN: 2140-AB29

SURFACE TRANSPORTATION BOARD (STB)

Completed Actions

582. Review of Commodity, Boxcar, and TOFC/COFC Exemptions, Docket No. EP 704

Legal Authority: 49 U.S.C. 10502; 49 U.S.C. 13301

Abstract: The Board requested public comment and held a public hearing in February 2011 to explore the continued utility of, and the issues surrounding, the commodity exemptions under 49 CFR 1039.10 and 1039.11, the boxcar exemption under 49 CFR 1039.14, and the trailer-on-flatcar/container-on-flatcar exemption under 49 CFR part 1090. The Board encouraged interested parties to address the effectiveness of the exemptions in the marketplace, whether the rationale behind any of these exemptions should be revisited, and whether the exemptions should be subject to periodic review. Comments and exhibits were received through February 24, 2011. The Board opened a new sub-docket to propose the revocation of certain exemptions.

Timetable:

Action | Date | FR Cite
Notice of Public Hearing | 10/27/10 | 75 FR 66187
Withdrawn | 03/23/16

Regulatory Flexibility Analysis Required: Yes.

Agency Contact: Scott M. Zimmerman, Deputy Director, Office of Proceedings, Surface Transportation Board, 395 E Street SW., Washington, DC 20423-0001, Phone: 202 245-0386, Fax: 202 245-0464, Email: zimmermans@stb.dot.gov.

RIN: 2140-AB28

[FR Doc. 2016-29935 Filed 12-22-16; 8:45 am]

BILLING CODE 4915-01-P